DEPARTMENT OF ENERGY

Federal Energy Regulatory Commission

[Project No. 14826-001]

Merchant Hydro Developers, LLC; Notice of Surrender of Preliminary Permit

Take notice that Merchant Hydro Developers, LLC, permittee for the proposed Hudson Hill Pumped Storage Hydro Project, has requested that its preliminary permit be terminated. The permit was issued on September 5, 2017, and would have expired on August 31, 2020.¹ The project would have been located near Jackson Township in Lycoming County, Pennsylvania.

¹ 160 FERC 62,203 (2017).

The preliminary permit for Project No. 14826 will remain in effect until the close of business, January 19, 2018. But, if the Commission is closed on this day, then the permit remains in effect until the close of business on the next day in which the Commission is open.² New applications for this site may not be submitted until after the permit surrender is effective.

² 18 CFR 385.2007(a)(2) (2017).

Dated: December 20, 2017.
Kimberly D. Bose,
Secretary.

[FR Doc. 2017-27918 Filed 12-26-17; 8:45 am]

BILLING CODE 6717-01-P